DEPARTMENT OF HEALTH AND HUMAN SERVICES

Centers for Disease Control and Prevention

[CDC-2015-0020; Docket Number NIOSH 156-A]

Issuance of Final Guidance Publications

AGENCY: National Institute for Occupational Safety and Health (NIOSH) of the Centers for Disease Control and Prevention (CDC), Department of Health and Human Services (HHS).

ACTION: Notice of issuance of final guidance publications.

SUMMARY: NIOSH announces the availability of the following final 14 IDLH Value Profiles: Iron Pentacarbonyl, Acrylonitrile, 1,1-Dichloro-1-Fluoroethane (HCFC-141b), Chloroacetyl Chloride, Chlorine Pentafluoride, Furan, Hexafluoroacetone, n-Butyl Acrylate, Benzontrile, Methyl Isocyanate, Bromine Pentafluoride, 1,3-Butadiene, Diketene and Butane.

DATES: The final IDLH documents were published on October 5 and December 16, 2016.

ADDRESSES: These documents may be obtained at the following links:

• Iron Pentacarbonyl: https://www.cdc.gov/niosh/docs/2016-166/

• Acrylonitrile: https://www.cdc.gov/niosh/docs/2016-167/

• 1,1-Dichloro-1-Fluoroethane (HCFC-141b): https://www.cdc.gov/niosh/docs/2016-168/

• Chloroacetyl Chloride: https://www.cdc.gov/niosh/docs/2016-169/

• Chlorine Pentafluoride: https://www.cdc.gov/niosh/docs/2016-170/

• Furan: https://www.cdc.gov/niosh/docs/2016-171/

• Hexafluoroacetone: https://www.cdc.gov/niosh/docs/2016-172/

• n-Butyl Acrylate: https://www.cdc.gov/niosh/docs/2016-173/

• Butane: https://www.cdc.gov/niosh/docs/2016-174/

• Benzontrile: https://www.cdc.gov/niosh/docs/2017-104/

• Methyl Isocynate: https://www.cdc.gov/niosh/docs/2017-105/

• Bromine Pentafluoride: https://www.cdc.gov/niosh/docs/2017-106/

• 1,3-Butadiene: https://www.cdc.gov/niosh/docs/2017-107/

• Diketene: https://www.cdc.gov/niosh/docs/2017-108/

FOR FURTHER INFORMATION CONTACT: G. Scott Dotson, NIOSH/Education and Information Division, 1090 Tusculum Ave., MS C-32, Cincinnati, OH 45226, email address: fya8@cdc.gov.

SUPPLEMENTARY INFORMATION: On May 1, 2015, NIOSH published a request for public review in the Federal Register [80 FR 24930] on immediately dangerous to life and health (IDLH) values and support technical documents. All comments received were reviewed and accepted where appropriate.

John Howard,
Director, National Institute for Occupational Safety and Health, Centers for Disease Control and Prevention.

[FR Doc. 2017-07523 Filed 4-13-17; 8:45 am]

BILLING CODE 4163-19-P